ENVIRONMENTAL PROTECTION AGENCY

[Petition IV-2006-4; FRL-8481-1]

Clean Air Act Operating Permit Program; Petition for Objection to State Operating Permit for East Kentucky Power Cooperative—Hugh L. Spurlock Generating Station; Maysville (Mason County), KY

AGENCY: Environmental Protection Agency (EPA).

ACTION: Notice of final order on petition to object to a state operating permit.

SUMMARY: Pursuant to Clean Air Act Section 505(b)(2) and 40 CFR 70.8(d), the EPA Administrator signed an Order, dated August 30, 2007, partially granting and partially denying a petition to object to a state operating permit issued by the Kentucky Division for Air Quality (KDAQ) to East Kentucky Power Cooperative—Hugh L. Spurlock Generating Station (Spurlock Station) located in Maysville, Mason County, Kentucky. This Order constitutes final action on the petition submitted by Sierra Club (Petitioner). Pursuant to section 505(b)(2) of the Clean Air Act (the Act), any person may seek judicial review of the Order in the United States Court of Appeals for the appropriate circuit within 60 days of this notice under section 307(b) of the Act.

ADDRESSES: Copies of the final Order, the petition, and all pertinent information relating thereto are on file at the following location: EPA Region 4, Air, Pesticides and Toxics Management Division, 61 Forsyth Street, SW., Atlanta, Georgia 30303-8960. The final Order is also available electronically at the following address: http://www.epa.gov/region07/programs/artd/air/title5/petitiondb/petitions/ spurlock_decision2006.pdf.

FOR FURTHER INFORMATION CONTACT: Art Hofmeister, Air Permits Section, EPA Region 4, at (404) 562-9115 or hofmeister.art@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioner submitted a petition on August 17, 2006, requesting that EPA object to a state title V operating permit issued by KDAQ to Spurlock Station. Petitioner alleges that the permit is inconsistent with the Act for the following reasons: (1) The permit does not specify whether continuous opacity monitoring data will be available (as credible evidence) to prove a violation of the opacity standard for Unit 1; (2) the permit does not include a heat rate input limit for Unit 2; (3) the permit does not contain a compliance schedule for bringing Unit 2 into compliance with prevention of significant deterioration requirements; (4) the permit improperly omits an applicable requirement to construct and operate Unit 3 consistent with and in accordance to the specifications provided in its permit application; (5) the permit contains erroneous best available control technology (BACT) limits at Unit 3 for several pollutants; (6) the permit contains unenforceable limits related to particulate matter and hazardous air pollutant emissions from Unit 3; and (7) the permit contains erroneous BACT limits for Unit 4.

On August 30, 2007, the Administrator issued an Order partially granting and partially denying the petition. The Order explains EPA's rationale for granting the petition with respect to Issue 2 (heat rate input limit) and Issue 7 (concerning the BACT determination for sulphur dioxide and low sulfur coal at Unit 4). The Order also provides the basis for denying the petition with respect to: Issue 1 (whether continuous opacity monitoring data will be available as credible evidence); Issue 3 (compliance schedule for Unit 2); Issue 4 (omission of an applicable requirement to construct and operate Unit 3); Issue 5 (BACT limits for several pollutants at Unit 3); Issue 6 (unenforceable limits related to particulate matter and hazardous air pollutants from Unit 3); and Issue 7 (concerning the BACT determination for sulfur dioxide and coal washing, particulate matter, mercury and beryllium, and consideration of Integrated Gasification Combined Cycle technology at Unit 4).

Dated: September 25, 2007.
J.I. Palmer, Jr.,
Regional Administrator, Region 4.

[FR Doc. E7-20173 Filed 10-11-07; 8:45 am]

BILLING CODE 6560-50-P